FEDERAL COMMUNICATIONS COMMISSION

47 CFR Part 73

[DA 02-865; MM Docket Nos. 01-340, 01-341, 01-342, 01-343; RM-10345, RM-10346, RM-10347, RM-10348]

Radio Broadcasting Services; Pierce, NE; Coosada, AL; Pineview, GA; Diamond Lake, OR

AGENCY: Federal Communications Commission.

ACTION: Final rule.

SUMMARY: In this document, the Commission allots channels in four separate docketed proceedings which were proposed together in a multiple docket Notice of Proposed Rule Making. See 67 FR 851 (January 8, 2002).1) At the request of Pierce Radio, LLC, Channel 248C2 is allotted at Pierce, Nebraska, as the community's first local transmission service. Channel 248C2 is allotted at Pierce with a site restriction of 5 kilometers (3.1 miles) east of the community. Coordinates for Channel 248C2 at Pierce are 42-11-30 NL and 97-28-00 WL. 2) At the request of Media Equities Corp. we allot Channel 226A at Coosada, Alabama. Channel 226A is allotted at Coosada with a site restriction of 14 kilometers (8.7 miles) southeast of the community. Coordinates for Channel 226A at Coosada are 32-26-58 NL and 86-11-38 WL. 3) At the request of Data+Corp. Channel 226A is allotted at Pineview, Georgia, as the community's first local aural transmission service. Channel 226A can be allotted at Pineview with a site restriction of 8.4 kilometers (5.3 miles) southeast of the community. Coordinates for Channel 226A at Pineview are 32-00-44 NL and 83-28-19 WL. 4) At the request of Robert W. Larson, Channel 299A is allotted at Diamond Lake, Oregon as the community's first local aural transmission service. Channel 299A can be allotted at Diamond Lake without a site restriction. Coordinates for Channel 299A at Diamond Lake are 43-10-44NL and 122-8-16 WL.

DATES: Effective May 28, 2002.

FOR FURTHER INFORMATION CONTACT: Victoria M. McCauley, Mass Media Bureau, (202) 418-2180.

SUPPLEMENTARY INFORMATION: This is a synopsis of the Commission's Report and Order, MM Docket Nos. 01-345, 01-346, 01-347 and 01-348, adopted April 3, 2002, and released April 12, 2002. The full text of this document is available for public inspection and copying during regular business hours at the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Nebraska, is amended by adding Pierce, Channel 248C2.

3. Section 73.202(b), the Table of FM Allotments under Alabama, is amended by adding Coosada, Channel 226A.

4. Section 73.202(b), the Table of FM Allotments under Georgia, is amended by adding Pineview, Channel 226A.

5. Section 73.202(b), the FM Table of Allotments under Oregon, is amended by adding Diamond Lake, Channel 299A.

Federal Communications Commission.
John A. Karousos,
Assistant Chief, Audio Division, Office of Broadcast License Policy, Media Bureau.

[FR Doc. 02-10164 Filed 4-24-02; 8:45 am]

BILLING CODE 6712-01-U